DEPARTMENT OF COMMERCE

National Oceanic and Atmospheric Administration

[I.D. 100101G]

New England Fishery Management Council; Public Meetings

AGENCY: National Marine Fisheries Service (NMFS), National Oceanic and Atmospheric Administration (NOAA), Commerce.

ACTION: Notice of public meetings.

SUMMARY: The New England Fishery Management Council (Council) is scheduling a public meeting of its Groundfish Oversight Committee, Scallop Oversight Committee and Red Crab Oversight Committee in October, 2001 to consider actions affecting New England fisheries in the exclusive economic zone (EEZ). Recommendations from these groups will be brought to the full Council for formal consideration and action, if appropriate.

DATES: The meetings will be held from October 24 to October 29, 2001. See SUPPLEMENTARY INFORMATION for specific dates and times.

ADDRESSES: The meetings will be held in Peabody and Danvers, MA. and Warwick, RI. See SUPPLEMENTARY INFORMATION for specific locations.

Council address: New England Fishery Management Council, 50 Water Street, Mill 2, Newburyport, MA 01950.

FOR FURTHER INFORMATION CONTACT: Paul J. Howard, Executive Director, New England Fishery Management Council; (978) 465-0492.

SUPPLEMENTARY INFORMATION:

Meeting Dates and Agendas

Wednesday, October 24, 2001, 9:30 a.m.—Groundfish Oversight Committee Meeting.

Location: Holiday Inn, One Newbury Street, Peabody, MA 01960; telephone: (978) 535-4600.

The committee will meet to continue development of Framework 36 to the Northeast Multispecies Fishery Management Plan (FMP). Framework 36 was initiated by the Council in January, 2001, to address the following issues: reducing excessive regulatory discards of Gulf of Maine cod resulting from a trip limit, meeting the fishing mortality objectives for Gulf of Maine cod, extending and/or adjusting the Western Gulf of Maine closure (currently scheduled to open May, 1, 2002), considering allowing access to groundfish closures by tuna purse seine vessels, and expanding the area for the northern shrimp exempted fishery. Options under consideration include a wide variety of management tools (closed areas, gear restrictions, effort restrictions, trip limits, recreational fishing restrictions, etc.). The committee may also meet in closed session to discuss the advisory panel membership.

Thursday, October 25th, 2001 at 9:30 a.m and Friday October 26, 2001 at 8:30 a.m.—Scallop Oversight Committee Meeting.

Location: Crowne Plaza Hotel, 801 Grenwich Avenue, Warwick, RI 02886; telephone: (401) 732-6000.

The Oversight Committee will continue development of management alternatives for Draft Amendment 10 to the Sea Scallop FMP. The committee discussion will focus on measures (bycatch total allowable catches, gear modifications, rock chains, etc.) to reduce bycatch and habitat impacts, measures to improve data collection, measures to manage scallop fishing by vessels with General Category permits, a 12-day maximum trip length proposal, a minimum 120-day allocation principal, hardship exemptions for carrying forward day-at-sea allocations, and incentive programs for using improved gear. Other issues and measures associated with Amendment 10 may also be developed.

Monday, October 29, 2001 at 9:00 a.m.—Red Crab Oversight Committee Meeting.

Location: Sheraton Ferncroft, 50 Ferncroft Road, Danvers, MA 01923; telephone: (978) 777-2500.

The Committee will review the draft Red Crab FMP, Draft Environmental Impact Statement, and draft public hearing document. They will also review the proposed management measures and alternatives and may select preferred alternatives to recommend to the full Council.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

These meetings are physically accessible to people with disabilities. Requests for sign language interpretation or other auxiliary aids should be directed to Paul J. Howard (see ADDRESSES) at least 5 days prior to the meeting dates.

Dated: October 4, 2001.
Richard W. Surdi,
Acting Director, Office of Sustainable Fisheries, National Marine Fisheries Service.

[FR Doc. 01-25431 Filed 10-9-01; 8:45 am]

BILLING CODE 3510-22-S